DEPARTMENT OF THE INTERIOR

Bureau of Land Management

[NV-050-1330]

Notice of Intent To Prepare an Environmental Impact Statement To Analyze the Proposed Rinker and Service Rock Products Competitive Mineral Material Sales (NVN-083153 and NVN-082069) for the Sale of Aggregates

AGENCY: Bureau of Land Management, Interior.

ACTION: Notice of intent.

SUMMARY: Pursuant to section 102(2)(c) of the National Environmental Policy Act of 1969, 40 Code of Federal Regulations (CFR) subparts 1500-1508, and 43 CFR subpart 3600, notice is hereby given that the Bureau of Land Management (BLM), Las Vegas Field Office will be preparing an Environmental Impact Statement (EIS) for the Rinker and Service Rock Projects, two proposed competitive mineral material sales which would result in two open pit limestone quarries that would merge in the future into one open pit, and associated facilities, located on public lands in Clark County, Nevada.

DATES: This notice initiates the public scoping period. Written comments on the scope of the EIS should be post-marked or hand delivered to the BLM Las Vegas Field Office by 4:30 p.m., no later than 30 days after the date of publication of this notice in the Federal Register to ensure full consideration. The public will be notified of scoping meetings through the local news media at least 15 days prior to the first meeting. It is anticipated at least two scoping meetings (in Las Vegas, Nevada) will be held during this scoping period.

ADDRESSES: Written scoping comments should be sent to the BLM, Las Vegas Field Office, 1407 North Torrey Pines Drive, Las Vegas, Nevada 89130, ATTN: Edward Seum. Written comments may also be faxed to Edward Seum at (702) 515-5010, or submitted in writing to the BLM at one of the scoping meetings.

FOR FURTHER INFORMATION CONTACT: For further information and/or to have your name added to our mailing list, contact Edward Seum, Geologist at the BLM Las Vegas Field Office, or by telephone at (702) 515-5070.

SUPPLEMENTARY INFORMATION: Rinker Materials West, LLC (Rinker) and Service Rock Products Corp. (Service Rock) have submitted requests for the competitive sale of mineral materials along with mining and reclamation plans (NVN-083153 and NVN-082069) to the BLM for the proposed mining projects. The proposed projects would involve public lands in Clark County, Nevada, and would be located approximately 15 miles south of the City of Las Vegas in the following area: Township 23 South, Range 61 East, Section 29, South 1/2, and Section 32, North 1/2, Mt. Diablo Meridian. The project would involve the construction and development of the following primary components: Open pit quarries for development of limestone aggregate; waste rock stockpiles; aggregate stockpiles for use in the production of concrete, asphalt and other products; ancillary facilities (scales, maintenance shop, administrative facilities, and fuel and lubricant storage facilities); primary crusher; conveyor system; offices and laydown yards; ready mix facilities; asphalt hot plant; water supply well(s) and associated rights-of-way for powerlines, access roads, haul, secondary, and access roads; and ancillary facilities including growth media stockpiles, diversion ditches, and stormwater runoff controls.

The mining and processing facilities would operate for approximately 20 years. During the first year, aggregate production would be approximately 500,000 tons. This rate would gradually increase over a four year period to approximately 3,000,000 tons per year. Site closure and final reclamation would be undertaken at the end of mining.

The Rinker and Service Rock mining and reclamation plans will be presented to the public during scoping meetings, and informational letters on the mining and reclamation plans will be mailed to interested parties. The mining and reclamation plans will be available for public review at the BLM's Las Vegas Field Office. The BLM invites public comment on the scope of the analysis, including issues to consider and alternatives to the proposed action. The purpose of the public scoping process is to determine relevant issues that will influence the scope of the environmental analysis and EIS alternatives—in addition to the proposed action, the BLM will explore and objectively evaluate all reasonable alternatives, including the alternative of no action, pursuant to Council on Environmental Quality (CEQ) regulations 1502.14(a) and 1502.14(d).

An interdisciplinary approach will be used to develop the EIS, in order to consider the variety of resource issues and concerns identified. Potential significant direct, indirect, residual, and cumulative impacts from the proposed action and alternatives will be analyzed in the EIS. Significant issues to be addressed in the EIS include air quality impacts, blasting activities, transportation, visual resources, and socioeconomics. Additional issues may be identified during the scoping process. Staff from the BLM will be present at the scoping meetings to explain the environmental review process, the mining regulations, and other requirements for processing the proposed mining and reclamation plans and the associated EIS. Representatives of Rinker and Service Rock will also be available to describe their proposals.

You may submit comments on issues in writing to the BLM at the public scoping meetings, or you may submit them to the BLM using one of the methods listed in the ADDRESSES section above. Before including your address, phone number, e-mail address, or other personal identifying information in your comment, you should be aware that your entire comment—including your personal identifying information—may be made publicly available at any time. While you can ask us in your comment to withhold your personal identifying information from public review, we cannot guarantee that we will be able to do so. To be most helpful, formal scoping comments should be submitted within 30 days after the date of publication of this notice, although comments will be accepted throughout the development of the EIS. Comments received and a list of attendees for each scoping meeting will be made available for public inspection and open for 30 days following each meeting for any participant(s) who wish to clarify their views. Comments and documents pertinent to this proposal, including names and street addresses of respondents, may be examined at the Las Vegas Field Office during regular business hours (7:30 a.m.-4:30 p.m. Monday through Friday, except holidays). Comments may be published as part of the EIS.

Federal, State, and local agencies, as well as individuals or organizations that may be interested in or affected by the BLM's decision on this project are invited to participate in the scoping process and, if eligible, may request or be requested by the BLM to participate as a cooperating agency.

Mark R. Chatterton,
Assistant Field Manager, Nonrenewable Resources, Las Vegas Field Office.

[FR Doc. E7-11208 Filed 6-8-07; 8:45 am]

BILLING CODE 4310-HC-P